DEPARTMENT OF AGRICULTURE

Food and Nutrition Service

7 CFR Parts 272 and 273

RIN: 0584-AC39

Food Stamp Program: Personal Responsibility of the Personal Responsibility and Work Opportunity Reconciliation Act of 1996: Delay of Effective Date

AGENCY: Food and Nutrition Service, USDA.

ACTION: Final rule; delay of effective date.

SUMMARY: In accordance with the memorandum of January 20, 2001, from the Assistant to the President and Chief of Staff, entitled “Regulatory Review Plan,” published in the Federal Register on January 24, 2001, this action temporarily delays for 60 days the effective date of the rule entitled Food Stamp Program: Personal Responsibility Provisions of the Personal Responsibility and Work Opportunity Reconciliation Act of 1996, published in the Federal Register on January 17, 2001, 66 FR 4438. The rule implements 13 provisions of the Personal Responsibility and Work Opportunity Reconciliation Act of 1996. To the extent that 5 U.S.C. section 553 applies to this section, it is exempt from notice and comment because it constitutes a rule of procedure under 5 U.S.C. section 553(b)(A). Alternatively, the Department's implementation of this rule without opportunity for public comment, effective immediately upon publication today in the Federal Register, is based on the good cause exceptions in 5 U.S.C. section 553(b) B) and 553(d)(3). Seeking public comment is impracticable, unnecessary and contrary to the public interest. The temporary 60-day delay in effective date is necessary to give Department officials the opportunity for further review and consideration of new regulations, consistent with the Assistant to the President's memorandum of January 20, 2001. Given the imminence of the effective date, seeking prior public comment on this temporary delay would have been impractical, as well as contrary to the public interest in the orderly promulgation and implementation of regulations. The imminence of the effective date is also good cause for making this rule effective immediately upon publication.

DATES: The effective date of the Food Stamp Program: Personal Responsibility Provisions of the Personal Responsibility and Work Opportunity Reconciliation Act of 1996, published in the Federal Register on January 17, 2001, at 66 FR 4438, is delayed for 60 days, from April 2, 2001, to a new effective date of June 1, 2001 except for the amendments to 7 CFR 272.2(d)(1)(xiii) which retains the effective date of August 1, 2001.

FOR FURTHER INFORMATION CONTACT: Sheri Ackerman, Regulatory Control Officer, Food and Nutrition Service, 3101 Park Center Drive, Alexandria, Virginia 22302-1594 or by telephone to (703) 305-2246.

Dated: January 29, 2001.
Ann M. Veneman,
Secretary.

[FR Doc. 01-2864 Filed 2-2-01; 8:45 am]

BILLING CODE 3410-30-M